ENVIRONMENTAL PROTECTION AGENCY

[EPA-HQ-OW-2022-0365 and EPA-HQ-OW-2022-0366; FRL 8310-03-OW]

Draft Recommended Aquatic Life Ambient Water Quality Criteria for Perfluorooctanoic Acid (PFOA) and Perfluorooctane Sulfonic Acid (PFOS); Extension of Comment Period

AGENCY: Environmental Protection Agency (EPA).

ACTION: Notice of availability; extension of comment period.

SUMMARY: The Environmental Protection Agency (EPA) is extending the comment period for the Draft Recommended Aquatic Life Ambient Water Quality Criteria for Perfluorooctanoic acid (PFOA) and Perfluorooctane Sulfonic Acid (PFOS). The comment period is scheduled to close on June 2, 2022. However, a number of groups have requested additional time to submit comments. In response, EPA is extending the public comment period for an additional 30 days through July 2, 2022.

DATES: The comment period for the notice of availability published May 3, 2022 (87 FR 26199), is extended. The EPA must receive comments on or before July 2, 2022.

ADDRESSES: You may send comments, identified by the Docket ID No. EPA-HQ-OW-2022-0365 for the draft PFOA criteria or Docket ID No. EPA-HQ-OW-2022-0366 for the draft PFOS criteria, through the Federal eRulemaking Portal: https://www.regulations.gov/. Follow the online instructions for submitting comments.

Instructions: All submissions received must include the relevant Docket ID Number(s) for these draft criteria. Comments received may be posted without change to https://www.regulations.gov/, including any personal information provided. For detailed instructions on sending comments and additional information on the public comment process, see the “Public Participation” heading of the SUPPLEMENTARY INFORMATION section of this document.

FOR FURTHER INFORMATION CONTACT: James Justice, Health and Ecological Criteria Division, Office of Water (Mail Code 4304T), Environmental Protection Agency, 1200 Pennsylvania Avenue NW, Washington, DC 20460; telephone: (202) 566-0275; or email: justice.jamesr@epa.gov.

SUPPLEMENTARY INFORMATION: On May 3, 2022, EPA announced the availability of Clean Water Act (CWA) national “Draft Recommended Aquatic Life Ambient Water Quality Criteria for Perfluorooctanoic acid (PFOA)” and “Draft Recommended Aquatic Life Ambient Water Quality Criteria for Perfluorooctane Sulfonic Acid (PFOS)” for a 30-day public review and comment period to seek additional scientific views, data, and information regarding the science and technical approach used in the derivation of the draft documents.

The original deadline to submit comments was June 2, 2022 (87 FR 26199, May 3, 2022). This action extends the comment period for 30 days. Written comments must now be received by July 2, 2022. The “Draft Recommended Aquatic Life Ambient Water Quality Criteria for Perfluorooctanoic acid (PFOA)” and other supporting materials may also be viewed and downloaded from EPA's website at https://www.epa.gov/wqc/aquatic-life-criteria-perfluorooctanoic-acid-pfoa. The “Draft Recommended Aquatic Life Ambient Water Quality Criteria for Perfluorooctane Sulfonic Acid (PFOS)” and other supporting materials may also be viewed and downloaded from EPA's website at https://www.epa.gov/wqc/aquatic-life-criteria-perfluorooctane-sulfonate-pfos.

Public Participation—Written Comments

Submit your comments, identified by Docket ID No. EPA-HQ-OW-2022-0365 for the draft PFOA criteria or Docket ID No. EPA-HQ-OW-2022-0366 for the draft PFOS criteria, at https://www.regulations.gov. Once submitted, comments cannot be edited or removed from the docket. The EPA may publish any comment received to its public docket. Do not submit to EPA's docket at https://www.regulations.gov any information you consider to be Confidential Business Information (CBI), Proprietary Business Information (PBI), or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). Please visit https://www.epa.gov/dockets/commenting-epa-dockets for additional submission methods; the full EPA public comment policy; information about CBI, PBI, or multimedia submissions; and general guidance on making effective comments.

Radhika Fox,
Assistant Administrator.

[FR Doc. 2022-11569 Filed 5-27-22; 8:45 am]

BILLING CODE 6560-50-P